DEPARTMENT OF COMMERCE

National Oceanic and Atmospheric Administration

[I.D. 022202A]

Proposed Information Collection; Comment Request; Alaska License Limitation Program for Groundfish, Crab, and Scallops

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before April 29, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Patsy A. Bearden, F/AKR2, P.O. Box 21668, Juneau, AK 99802-1668 (telephone 907-586-7008).

SUPPLEMENTARY INFORMATION:

I. Abstract

The National Oceanic and Atmospheric Administration is seeking renewed Paperwork Reduction Act clearance for requirements currently cleared under OMB Numbers 0648-0420 (scallops) and 0648-0334 (groundfish and crab), but proposes to merge these requirements under the latter number. These two collections of information originally were needed to make eligibility determinations to obtain a License Limitation Permit (LLP) to deploy a harvesting vessel in the king or Tanner crab fisheries in the Bering Sea/Aleutian Islands Management Area (BSAI), in the scallop fisheries, and in the directed groundfish fisheries (except for IFQ sablefish and for demersal shelf rockfish east of 140 degrees West longitude) in the GOA or the BSAI. The LLP has no expiration date; consequently, the application for eligibility was a one-time procedure. This collection now supports LLP transfer activities for crab, scallops, and groundfish, and any appeals resulting from denied actions.

II. Method of Collection

The information is submitted to respond to requirements set forth in regulations at 50 CFR part 679.4. Paper applications are required from participants, and methods of submittal include facsimile transmission or mailing of paper forms.

III. Data

OMB Number: 0648-0334.

Form Number: None.

Type of Review: Regular submission.

Affected Public: Individuals or households, business or other for-profit organizations.

Estimated Number of Respondents: 244.

Estimated Time Per Response: 1 hour for a LLP Transfer Application; and 4 hours for a LLP appeal.

Estimated Total Annual Burden Hours: 544.

Estimated Total Annual Cost to Public: $928.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 21, 2002.
Madeleine Clayton,
Departmental Paperwork Clearance Officer, Office of the Chief Information Officer.

[FR Doc. 02-4835 Filed 2-27-02; 8:45 am]

BILLING CODE 3510-22-S